PEACE CORPS

Proposed Collection Renewal

AGENCY: Peace Corps.

ACTION: 60-Day notice and request for comments.

SUMMARY: The Peace Corps will be submitting the following information collection request to the Office of Management and Budget (OMB) for extension, without change, of a currently approved information collection. In compliance with the Paperwork Reduction Act of 1995 (44 U.S.C. Chapter 35), the Peace Corps invites the general public to comment on the renewal of Confidential Reference Form (OMB Control No. 0420-0006). This process is conducted in accordance with 5 CFR 1320.10.

DATES: Comments must be submitted on or before October 19, 2010.

ADDRESSES: Comments should be addressed to Denora Miller, FOIA Officer, Peace Corps, 1111 20th Street, NW., Washington, DC 20526. Denora Miller can be contacted by telephone at 202-692-1236 or e-mail at pcfr@ peacecorps.gov. mailto:ddunevant@peacecorps.gov. E-mail comments must be made in text and not in attachments.

FOR FURTHER INFORMATION CONTACT: Denora Miller at Peace Corps address above.

SUPPLEMENTARY INFORMATION: Proposal to renew the following currently approved collection of information:

OMB Control Number: 0420-0006.

Title: Confidential Reference Form.

Type of Review: Extension, without change, currently approved collection.

Respondents: Volunteer applicants.

Respondents Obligation to Reply: Voluntary.

Burden to the Public:

a. Estimated annual number of respondents: 33,000.

b. Estimated average time to respond: 30 minutes.

c. Estimated total annual burden hours: 16,500 hours.

d. Frequency of response: One time.

e. Estimated cost to respondents: $0.00.

General description of collection: The form is an integral part of the screening and selection process conducted by the Office of Volunteer Recruitment and Selection. The purpose of this information collection is to assist in processing applicants for volunteer service in determining suitability of applicants.

Dated: August 13, 2010.
Garry W. Stanberry,
Deputy Associate Director for Management.

[FR Doc. 2010-20637 Filed 8-19-10; 8:45 am]

BILLING CODE 6051-01-P